DEPARTMENT OF THE INTERIOR

Bureau of Indian Affairs

[212A2100DD/AAKC001030/A0A501010.999900253G]

Indian Gaming; Approval of Tribal-State Class III Gaming Compacts in the State of Arizona

AGENCY: Bureau of Indian Affairs, Interior.

ACTION: Notice.

SUMMARY: This notice publishes the approval of the class III gaming compacts between each of the following Tribes and the State of Arizona (State): The Ak-Chin Indian Community; Cocopah Tribe of Arizona; Colorado River Indian Tribes of the Colorado River Indian Reservation; Fort McDowell Yavapai Nation; Fort Mojave Indian Tribe of Arizona, California & Nevada; Gila River Indian Community of the Gila River Indian Reservation; Havasupai Tribe of the Havasupai Reservation; Hualapai Indian Tribe of the Hualapai Indian Reservation; Kaibab Band of Paiute Indians; Navajo Nation; Pascua Yaqui Tribe of Arizona; Quechan Tribe of the Fort Yuma Indian Reservation; Salt River Pima-Maricopa Indian Community of the Salt River Reservation; San Carlos Apache Tribe of the San Carlos Reservation; San Juan Southern Paiute Tribe of Arizona; Tohono O'odham Nation of Arizona; Tonto Apache Tribe of Arizona; White Mountain Apache Tribe of the Fort Apache Reservation; Yavapai-Apache Nation of the Camp Verde Indian Reservation; and the Zuni Tribe of the Zuni Reservation.

DATES: The compacts take effect on May 24, 2021.

FOR FURTHER INFORMATION CONTACT: Ms. Paula L. Hart, Director, Office of Indian Gaming, Office of the Deputy Assistant Secretary—Policy and Economic Development, Washington, DC 20240, paula.hart@bia.gov, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Compacts permit various types of gaming, including video devices, house banked card games, off-track pari-mutuel wagering, dealer controlled electronic games, sports wagering, fantasy sports contests, and live table games on the Tribes' Indian lands. The Compacts include provisions requiring the Tribes to pay the State from the Tribes' net win in exchange for substantial exclusivity in the State and for regulatory costs. The Compacts provide that the Tribes will have the responsibility to administer and enforce regulatory requirements. The Compacts are approved.

Bryan Newland,
Principal Deputy Assistant Secretary—Indian Affairs.

[FR Doc. 2021-10877 Filed 5-21-21; 8:45 am]

BILLING CODE 4337-15-P